DEPARTMENT OF AGRICULTURE

Forest Service

Notice of Availability of Draft Environmental Impact Statement, Rosemont Copper Project on the Coronado National Forest, Nogales Ranger District, Pima County, AZ

AGENCY: Forest Service, USDA.

ACTION: Notice of availability.

SUMMARY: In accordance with the National Environmental Policy Act of 1969 (NEPA 43 U.S.C. 4321 et seq.) and the President's Council on Environmental Quality regulations, the Coronado National Forest announces the availability of a Draft Environmental Impact Statement (DEIS) for public review. The DEIS discloses the potential environmental impacts of the construction, operation and concurrent reclamation, and closure of an open-pit copper mine in Pima County, Arizona.

DATES: See SUPPLEMENTARY INFORMATION section for meeting dates.

ADDRESSES: See SUPPLEMENTARY INFORMATION section for meeting addresses and other options for submitting comments.

FOR FURTHER INFORMATION CONTACT: Coronado National Forest, 300 W. Congress St., Tucson, AZ 85701, or by telephone at (520) 388-8300.

SUPPLEMENTARY INFORMATION: The Coronado National Forest announces the availability of and public comment period for the Rosemont Copper Project DEIS, which documents and publicly discloses the environmental effects of proposed construction, operation and concurrent reclamation, and closure of an open-pit mine on National Forest System land. The proposed mining project would be located on 995 acres of private land and 3,670 acres of National Forest System land about 30 miles southeast of Tucson, Arizona, within Townships 18 and 19, Ranges 15 and 16, Gila and Salt River Meridian, Pima County, Arizona. Copper, molybdenum, silver, and some gold would be produced.

The Forest Service plans a 90-day public comment period, which begins with the Environmental Protection Agency's publication of a Notice of Availability in the Federal Register. A number of public meetings are planned. Several options for submitting comments are available.

Requirements for commenting, including appeal procedures, may be found at 36 Code of Federal Regulations Part 215. Comments received regarding this DEIS are considered part of the administrative record for the NEPA review. Within this context, a commenter's personally identifiable information, such as name and contact information, may be released to a third-party upon request under the Freedom of Information Act. Comments submitted anonymously, without a name and contact information, will be accepted and considered; however, anonymous comments will not provide the commenter with standing to appeal a subsequent decision under 36 Code of Federal Regulations Part 215.6(a)(3).

Comments on the DEIS should be as specific as possible. It is also helpful if comments refer to pages and/or chapters of the DEIS. Comments may address either the adequacy of specific analyses in the DEIS or the merits of the alternatives formulated and discussed in the document or both (refer to CEQ regulations at 40 CFR 1503.3). Concerns about predictive methodologies would be best addressed by alternative methodology and an explanation of why this methodology is preferable. General comments and subjective expressions of advocacy or opposition to the project or alternative are not as useful unless they are substantiated by a link to a relevant issue.

Written and oral comments on the DEIS may be submitted during public meetings planned to be held by the Forest Service as noted below. For questions concerning special meeting needs or to request a sign language interpreter, please contact the Coronado National Forest at (520) 388-8300-voice or (520) 388-8403-TTY, dial 711 from a TTY relay for service, or e-mail mailroom_r3_coronado@fs.fed.us prior to the meeting.

1. October 22, 2011, 1 p.m. to 5 p.m., Desert Diamond Conference Center, 1100 W. Pima Mine Road, Sahuarita, AZ 85629.

2. November 5, 2011, 1 p.m. to 5 p.m., Elgin Elementary School, 23 Elgin Road, Elgin, AZ 85611 (tentative).

3. November 12, 2011, 1 p.m. to 5 p.m., Palo Verde High School, 1302 S. Avenida Vega, Tucson, AZ 85710.

4. November 19, 2011, 1 p.m. to 5 p.m., Empire High School, 10701 E. Mary Ann Cleveland Way, Tucson, AZ 85747.

5. December 7, 2011, 5:30 p.m. to 8 p.m., Benson High School, 360 S. Patagonia Street, Benson, AZ 85602.

6. January 7, 2012, 1 p.m. to 5 p.m., Desert Diamond Conference Center, 1100 W. Pima Mine Road, Sahuarita, AZ 85629.

The Rosemont Copper Project Draft Environmental Impact Statement will be available for review at http://www.RosemontEIS.us. Written comments on the DEIS are best submitted electronically by accessing http://www.RosemontEIS.us and following the link to “Commenting on the DEIS”. Written comments may also be mailed to Rosemont Comments, P.O. Box 4207, Logan, UT 84323. Comments may also be submitted by facsimile to (435) 750-8799 and by electronic mail (e-mail) to CoronadoNF@RosemontEIS.us. The subject line of facsimiles and e-mail should include the words “Rosemont Copper Project EIS.” Brief oral comments can be made toll free by calling (888) 654-6646. Copies of the DEIS will also be available for public review at the following locations:

* Nogales Ranger District: 303 Old Tucson Road, Nogales, AZ and

* Coronado National Forest Supervisor's Office: 300 W. Congress St., 6th Floor, Tucson, AZ.

Authorization: National Environmental Policy Act of 1969 as amended (42 U.S.C. 4321-4346); Council on Environmental Quality Regulations (40 CFR parts 1500-1508); U.S. Department of Agriculture NEPA Policies and Procedures (7 CFR part 1b); Forest Service NEPA Compliance Regulations (36 CFR 220); Forest Service Notice, Comment, and Appeal Procedures Regulations (36 CFR 215). Certified to be a true copy of the original.

Dated: October 13, 2011.
Jim Upchurch,
Forest Supervisor.

[FR Doc. 2011-27028 Filed 10-18-11; 8:45 am]

BILLING CODE 3410-11-P